DEPARTMENT OF THE INTERIOR

Bureau of Land Management

43 CFR Part 4100

[WO-220-1020-24 1A]

RIN 1004-AD42

Grazing Administration—Exclusive of Alaska

AGENCY: Bureau of Land Management, Interior.

ACTION: Advance notice of proposed rulemaking for proposed amendments to the BLM's Grazing Administration Regulations and announcement of public meetings; correction.

SUMMARY: The Bureau of Land Management (BLM) in this document corrects one internet address and removes reference to another internet address to which the public cannot get access that appear in the advance notice of proposed rulemaking regarding proposed amendments to BLM's Grazing Administration Regulations, published in the Federal Register of March 3, 2003.

FOR FURTHER INFORMATION CONTACT: Ted Hudson, 202-452-5042.

Correction

In proposed rule FR Doc. 03-4933, beginning on page 9964 in the issue of March 3, 2003, make the following corrections:

1. In the Addresses section, on page 9964 in the 3rd column, correct the internet address immediately following the subheading “Direct Internet response” to read: “http://www.blm.gov/nhp/news/regulatory/index.htm”.

2. In the Supplementary Information section, on page 9966, in the 2nd column, correct the final paragraph of the advance notice of proposed rulemaking by revising it to read:

“Additional information about BLM's Rangeland, Soils, Water, and Air Program is available at any State Office or field office of the Bureau of Land Management.”

Dated: March 5, 2003.
Jim Hughes,
Deputy Director, Bureau of Land Management.

[FR Doc. 03-5718 Filed 3-7-03; 8:45 am]

BILLING CODE 4310-84-P